DEPARTMENT OF THE INTERIOR

National Park Service

[NPS-NCR-NACA-15266; PX.XDESC0047.00.1]

Final Environmental Impact Statement for the Antietam, Monocacy, Manassas White-Tailed Deer Management Plan

AGENCY: National Park Service, Interior.

ACTION: Notice of Availability.

SUMMARY: Pursuant to Section 102(2)(C) of the National Environmental Policy Act of 1969 and the Council on Environmental Quality regulations, the National Park Service (NPS) has prepared a Final Environmental Impact Statement (FEIS) for the White-tailed Deer Management Plan (Plan), Antietam National Battlefield, Maryland; Monocacy National Battlefield, Maryland; and Manassas National Battlefield Park, Virginia. The plan would manage white-tailed deer populations in order to support preservation of the natural and cultural landscape.

SUPPLEMENTARY INFORMATION: Antietam National Battlefield, Monocacy National Battlefield, and Manassas National Battlefield Park are all located in the NPS National Capital Region within about an hour's drive from Washington, DC. The U.S. Congress set aside these park units to represent outstanding aspects of our natural and cultural heritage. All three battlefields commemorate one or more Civil War battles and the history associated with these battles.

The purpose of the FEIS and Plan is to develop a deer management strategy that supports preservation of the natural and cultural landscape through the protection and restoration of native vegetation. Although relatively rare at the turn of the twentieth century, white-tailed deer have grown abundant in the Mid-Atlantic region during recent years. Current deer densities of 130-230 deer per square mile are substantially larger than commonly accepted sustainable densities for this region, estimated at about 15-25 deer per square mile. In addition, the NPS needs to plan for the potential threat posed by chronic wasting disease (CWD), which could spread to these park units.

The NPS has developed the FEIS under section 102(2)(C) of the National Environmental Policy Act of 1969 and consistent with laws, regulations, and policies applicable to NPS units, and with the purposes of these three parks. The FEIS describes and analyzes three action alternatives (B, C, and D) to guide management actions and strategies for white-tailed deer. The alternatives include lethal and non-lethal actions to manage and reduce the impacts of white-tailed deer. Included in the alternatives is the no-action alternative (alternative A), which would continue current deer management. Under Alternative A, the parks would also take no new actions with respect to CWD.

Alternative B of the Plan provides a nonlethal deer reduction option to implement nonsurgical reproductive control of does when an acceptable reproductive control agent is available that meets NPS established criteria. Large constructed exclosures would also protect 5-20% of the forested area of the parks to allow reforestation. Additional techniques include fencing of crops and woodlots, crop protection through sacrificial rows, and aversive conditioning.

Alternative C of the Plan provides a lethal deer reduction option through the use of sharpshooting with firearms, possible capture and euthanasia to reduce deer populations to the target density and maintain that level. Donation of meat would also occur, subject to any concerns or restrictions related to CWD.

Alternative D of the Plan provides a combined lethal and nonlethal deer reduction option through the use of sharpshooting with firearms, possible capture, and euthanasia to reduce deer populations to a desirable level and maintain that level. Once the target density has been reached, it may use nonsurgical reproductive control of does when an acceptable reproductive control agent is available that meets NPS established criteria.

Under all three of the action alternatives (Alternatives B, C, and D), the parks would also implement a long-term CWD response plan. Under this plan, if CWD is confirmed in or within 5 miles of a park, the park would lethally reduce the deer population to decrease potential for CWD transmittal and spread. Deer populations could be reduced to 15-20 deer per square mile or as needed to cooperate with state programs and testing requirements, but would be reduced to no less than 10 deer per square mile. Deer will be tested for CWD.

The FEIS evaluates potential environmental consequences of implementing the alternatives. Impact topics include the natural, cultural, and socioeconomic resources.

The Draft EIS was released in July 2013 and was available for public and agency review and comment beginning with publication of the Notice of Availability in the Federal Register. Comments were accepted during the 60-day public comment period. After this public review, NPS revised this document in response to public comments.

The FEIS is now available. Interested persons and organizations may obtain the FEIS online at http://parkplanning.nps.gov/anti. A 30-day no-action period will follow this Notice of Availability in the Federal Register. After this period, the selected alternative will be documented in a Record of Decision that will be signed by the Regional Director of the National Capital Region of the NPS. Notice of approval of the EIS would be published similarly. For further information contact Tracy Atkins at 303-969-2325.

Date: June 10, 2014.
Lisa A. Mendelson-Ielmini,
Acting Regional Director, National Park Service, National Capital Region.

[FR Doc. 2014-17920 Filed 7-31-14; 8:45 am]

BILLING CODE 4310-DL-P